DEPARTMENT OF COMMERCE

National Oceanic and Atmospheric Administration

[I.D 100201B]

Proposed Information Collection; Comment Request; Gear-Marking Requirement for Atlantic Large Whale Take Reduction Plan

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before December 4, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Patricia Lawson, F/PR2, Room 13754, 1315 East-West Highway, Silver Spring MD 20910-3282 (phone 301-713-2322, ext. 129).

SUPPLEMENTARY INFORMATION:

I. Abstract

The purpose of this proposed collection of information is to enable NOAA to reduce entanglements of large whales, especially right whales, in U.S. commercial fishing gear. Persons setting lobster trap/pot or gillnet gear in some areas of the Atlantic Ocean would be required to paint or otherwise mark their gear with two color codes, one color designating the type of gear, the other designating the area where the gear is set depending on area. These marking requirements would apply in right whale critical habitats and in two other areas where right whales are seen on a regular basis. These areas are the southeast U.S. observer area and the Stellwagen Bank/Jeffreys Ledge restricted area.

The goals of this collection of information are to obtain more information on where large whales are being entangled and on the type gear responsible for the entanglement. This information will allow NMFS to focus further risk reduction measures on problem areas rather than instituting broader measures that affect the overall industry.

II. Method of Collection

This is a marking requirement and no information is submitted to NOAA.

III. Data

OMB Number: 0648-0364.

Form Number: None.

Type of Review: Regular submission.

Affected Public: Business or other for-profit organizations, individuals or households.

Estimated Number of Respondents: 1,260.

Estimated Time Per Response: .6 minutes.

Estimated Total Annual Burden Hours: 4,206.

Estimated Total Annual Cost to Public: $25,238.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 27, 2001
Gwellnar Banks,
Management Analyst, Office of the Chief Information Officer.

[FR Doc. 01-25039 Filed 10-4-01; 8:45 am]

BILLING CODE 3510-22-S